DEPARTMENT OF JUSTICE

Foreign Claims Settlement Commission

Commencement of Claims Program

AGENCY: Foreign Claims Settlement Commission of the United States.

ACTION: Notice.

SUMMARY: This notice announces the commencement by the Foreign Claims Settlement Commission (“Commission”) of a program for adjudication of certain categories of claims of United States nationals against the Government of Libya, as defined below, which were settled under the “Claims Settlement Agreement Between the United States of America and the Great Socialist People's Libyan Arab Jamahiriya” (“Claims Settlement Agreement”) effective August 14, 2008.

DATES: These claims can now be filed with the Commission and the deadline for filing will be July 7, 2010. The deadline for completion of this claims adjudication program will be July 7, 2011.

FOR FURTHER INFORMATION CONTACT: Jaleh F. Barrett, Chief Counsel, Foreign Claims Settlement Commission of the United States, 600 E Street, NW., Room 6002, Washington, DC 20579, Tel. (202) 616-6975, FAX (202) 616-6993.

Notice of Commencement of Claims Adjudication Program

Pursuant to the authority conferred upon the Secretary of State and the Commission under subsection 4(a)(1)(C) of Title I of the International Claims Settlement Act of 1949 (Pub. L. 455, 81st Cong., approved March 10, 1950, as amended by Public Law 105-277, approved October 21, 1998 (22 U.S.C. 1623(a)(1)(C))), the Foreign Claims Settlement Commission hereby gives notice of the commencement of a program for adjudication of categories of claims of United States nationals against the Government of Libya. These claims, which have been referred to the Commission by the Department of State by letter dated January 15, 2009, are defined as:

Category A: This category of claims shall consist of claims by U.S. nationals who were held hostage or unlawfully detained in violation of international law, provided that (1) the claimant meets the standard for such claims adopted by the Commission; (2) the claim was set forth as a claim for injury other than emotional distress alone by the claimant named in the Pending Litigation; (3) the Pending Litigation against Libya has been dismissed before the claim is submitted to the Commission; and (4) the claimant did not receive an award pursuant to the referral of December 11, 2008.

Category B: This category shall consist of claims of U.S. nationals for mental pain and anguish who are living close relatives of a decedent whose death formed the basis of a death claim compensated by the Department of State provided that (1) The claim was set forth as a claim for emotional distress, solatium, or similar emotional injury by the claimant named in the Pending Litigation; (2) the claimant is not eligible for compensation from the associated wrongful death claim, and the claimant did not receive any compensation from the wrongful death claim; (3) the claimant has not received any compensation under any other part of the Claims Settlement Agreement, and does not qualify for any other category of compensation in this referral; and (4) the Pending Litigation against Libya has been dismissed before the claim is submitted to the Commission.

Category C: This category shall consist of claims of U.S. nationals for compensation for wrongful death, in addition to amounts already recovered under the Claims Settlement Agreement, where there is a special circumstance in that the claimants obtained a prior U.S. court judgment in the Pending Litigation awarding damages for wrongful death, provided that (1) the Commission determines that the existence of a prior U.S. court judgment for wrongful death warrants compensation in addition to the amount already recovered under the Claims Settlement Agreement; and (2) the Pending Litigation against Libya has been dismissed before the claim is submitted to the Commission.

Category D: This category shall consist of claims of U.S. nationals for compensation for physical injury in addition to amounts already recovered under the Commission process initiated by the December 11, 2008 referral, provided that (1) The claimant has received an award pursuant to the December 11, 2008 referral; (2) the Commission determines that the severity of the injury is a special circumstance warranting additional compensation, or that additional compensation is warranted because the injury resulted in the victim's death; and (3) the Pending Litigation against Libya has been dismissed before the claim is submitted to the Commission.

Category E: This category shall consist of claims of U.S. nationals for wrongful death or physical injury resulting from one of the terrorist incidents (“Covered Incidents”) listed below, incidents which formed the basis for Pending Litigation in which a named U.S. plaintiff alleged wrongful death or physical injury, provided that (1) the claimant was not a plaintiff in the Pending Litigation; and (2) the claim meets the standard for physical injury or wrongful death, as appropriate, adopted by the Commission.

Category F: This category shall consist of commercial claims of U.S. nationals provided that (1) the claim was set forth by the claimant named in the Pending Litigation; (2) the Commission determines that the claim would be compensable under the applicable legal principles; and (3) the Pending Litigation against Libya has been dismissed before the claim is submitted to the Commission.

The “Pending Litigation” referenced above is composed of the following cases:

Baker v. Socialist People's Libyan Arab Jamahiriya (D.D.C.) 03-cv-749.

Pflug v. Socialist People's Libyan Arab Jamahiriya (D.D.C.) 08-cv-505.

Certain Underwriters at Lloyds London v. Great Socialist People's Libyan Arab Jamahiriya (D.D.C.) 06-cv-731.

Clay v. Socialist People's Libyan Arab Jamahiriya (D.D.C.) 06-cv-707.

Collett v. Socialist People's Libyan Arab Jamahiriya (D.D.C.) 01-cv-2103.

Cummock v. Socialist People's Libyan Arab Jamahiriya (D.D.C.) 02-cv-2134.

Estate of John Buonocore III v. Great Socialist Libyan Arab Jamahiriya (D.D.C.) 06-cv-727.

Simpson v. Great Socialist People's Libyan Arab Jamahiriya (D.D.C.) 08-cv-529.

Fisher v. Great Socialist People's Libyan Arab Jamahiriya (D.D.C.) 04-cv-2055.

Franqui v. Syrian Arab Republic, et al. (D.D.C.) 06-cv-734.

Hagerman v. Socialist People's Libyan Arab Jamahiriya (D.D.C.) 02-cv-2147.

Harris v. Socialist People's Libyan Arab Jamahiriya (D.D.C.) 06-cv-732.

Hartford Fire Insurance Company v. Socialist People's Libyan Arab Jamahiriya (D.D.C.) 98-cv-3096.

Kilburn v. Islamic Republic of Iran, et al. (D.D.C.) 01-cv-1301.

Knowland v. Great Socialist People's Libyan Arab Jamahiriya (D.D.C.) 08-cv-1309.

La Reunion Aerienne v. Socialist People's Libyan Arab Jamahiriya (D.D.C.) 05-cv-1932.

McDonald v. Socialist People's Arab Jamahiriya (D.D.C.) 06-cv-729.

MacQuarrie v. Socialist People's Libyan Arab Jamahiriya (D.D.C.) 04-cv-176.

Patel v. Socialist People's Libyan Arab Jamahiriya (D.D.C.) 06-cv-626.

Pugh v. Socialist People's Libyan Arab Jamahiriya (D.D.C.) 02-cv-2026.

Simpson v. Socialist People's Libyan Arab Jamahiriya (D.D.C.) 00-cv-1722.

The “Covered Incidents” referenced above for purposes of Category E are composed of the following:

May 30, 1972 attack at Lod Airport in Israel, as alleged in Franqui v. Syrian Arab Republic, et al. (D.D.C.) 06-cv-734.

December 17, 1983 vehicle bomb explosion near Harrods Department Store in Knightsbridge, London, England, as alleged in McDonald v. Socialist People's Arab Jamahiriya (D.D.C.) 06-cv-729.

November 30, 1984 (approximate) kidnapping and subsequent death of Peter C. Kilburn, as alleged in Kilburn v. Socialist People's Libyan Arab Jamahiriya (D.D.C.) 01-cv-1301.

March 25, 1985 (approximate) kidnapping and subsequent death of Alec L. Collett, as alleged in Collett v. Socialist People's Libyan Arab Jamahiriya (D.D.C.) 01-cv-2103.

November 23, 1985 hijacking of Egypt Air flight 648, as alleged in Certain Underwriters at Lloyds London v. Great Socialist People's Libyan Arab Jamahiriya (D.D.C.) 06-cv-731, and Baker v. Socialist People's Libyan Arab Jamahiriya (D.D.C.) 03-cv-749/Pflug v. Socialist People's Libyan Arab Jamahiriya (D.D.C.) 08-cv-505.

December 27, 1985 attack at the Leonardo da Vinci Airport in Rome, Italy, as alleged in Estate of John Buonocore III v. Great Socialist Libyan Arab Jamahiriya (D.D.C.) 06-cv-727/Simpson v. Great Socialist People's Libyan Arab Jamahiriya (D.D.C.) 08-cv-529.

December 27, 1985 attack at the Schwechat Airport in Vienna, Austria, as alleged in Knowland v. Great Socialist People's Libyan Arab Jamahiriya (D.D.C.) 08-cv-1309.

April 5, 1986 bombing of the La Belle Discotheque in Berlin, Germany, as alleged in Clay v. Socialist People's Libyan Arab Jamahiriya (D.D.C.) 06-cv-707, and Harris v. Socialist People's Libyan Arab Jamahiriya (D.D.C.) 06-cv-732.

September 5, 1986 hijacking of Pan Am flight 73, as alleged in Patel v. Socialist People's Libyan Arab Jamahiriya (D.D.C.) 06-cv-626.

Detention beginning February 10, 1987 of the passengers and crew of the private yacht “Carin II,” as alleged in Simpson v. Socialist People's Libyan Arab Jamahiriya (D.D.C.) 00-cv-1722.

December 21, 1988 bombing of Pan Am flight 103, as alleged in Cummock v. Socialist People's Libyan Arab Jamahiriya (D.D.C.) 02-cv-2134, Fisher v. Great Socialist People's Libyan Arab Jamahiriya (D.D.C.) 04-cv-2055, Hagerman v. Socialist People's Libyan Arab Jamahiriya (D.D.C.) 02-cv-2147, Hartford Fire Insurance Company v. Socialist People's Libyan Arab Jamahiriya (D.D.C.) 98-cv-3096, and MacQuarrie v. Socialist People's Libyan Arab Jamahiriya (D.D.C.) 04-cv-176.

September 19, 1989 bombing of UTA flight 772, as alleged in La Reunion Aerienne v. Socialist People's Libyan Arab Jamahiriya (D.D.C.) 05-cv-1932, and Pugh v. Socialist People's Libyan Arab Jamahiriya (D.D.C.) 02-cv-2026.

In conformity with the terms of the referral, the Commission will determine the claims in accordance with the provisions of 22 U.S.C. 1621 et seq., which comprises Title I of the International Claims Settlement Act of 1949, as amended. The Commission will then certify to the Secretary of the Treasury those claims that it finds to be valid, for payment out of the claims fund established under the Claims Settlement Agreement.

The Commission will administer this claims adjudication program in accordance with its regulations, which are published in Chapter V of Title 45, Code of Federal Regulations (45 CFR 500 et seq.). In particular, attention is directed to subsection 500.3(a) of these regulations based on 22 U.S.C. 1623(f) which limits the amount of attorney's fees that may be charged for legal representation before the Commission. These regulations are also available over the Internet at http://www.gpoaccess.gov/cfr/index.html.

Approval has been obtained from the Office of Management and Budget for the collection of this information. Approval No. 1105-0090, expiration date 06/30/2012.

Mauricio J. Tamargo,
Chairman.

[FR Doc. E9-15975 Filed 7-6-09; 8:45 am]

BILLING CODE 4410-01-P